ENVIRONMENTAL PROTECTION AGENCY

[EPA-HQ-OEI-2011-0096; FRL-10018-48-OMS]

Proposed Information Collection Request; Comment Request; Cross-Media Electronic Reporting Rule (Renewal)

AGENCY: Environmental Protection Agency (EPA).

ACTION: Notice.

SUMMARY: The Environmental Protection Agency (EPA) is planning to submit an Information Collection Request (ICR), “Cross-Media Electronic Reporting Rule” (EPA ICR No. 2002.08, OMB Control No. 2025-0003) to the Office of Management and Budget (OMB) for review and approval in accordance with the Paperwork Reduction Act. Before doing so, EPA is soliciting public comments on specific aspects of the proposed information collection as described below. This is a proposed extension of the ICR, which is currently approved through August 31, 2021. An Agency may not conduct or sponsor and a person is not required to respond to a collection of information unless it displays a currently valid OMB control number.

DATES: Comments must be submitted on or before March 16, 2021.

ADDRESSES: Submit your comments, referencing Docket ID No. EPA-HQ-OEI-2011-0096, online using www.regulations.gov (our preferred method), by email to oei.docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Shirley Miller or Dipti Singh, Information Exchange Services Division, Office of Information Management, Office of Mission Support (2823T), Environmental Protection Agency, 1200 Pennsylvania Ave. NW, Washington, DC 20460; telephone number: 202-566-2908 or 202-566-0739 respectively; email address: miller.shirley@epa.gov or singh.dipti@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The scope of this ICR is the electronic reporting components of the Cross-Media Electronic Reporting Rule (CROMERR), which is designed to: (i) allow EPA to comply with the Government Paperwork Elimination Act of 1998; (ii) provide a uniform, technology-neutral framework for electronic reporting across all EPA programs; (iii) allow EPA programs to offer electronic reporting as they become ready for CROMERR; and (iv) provide states with a streamlined process—together with a uniform set of standards—for approval of their electronic reporting provisions for all their EPA-authorized programs. Responses to the collection of information are voluntary. In order to accommodate CBI, the information collected must be in accordance with the confidentiality regulations set forth in 40 CFR part 2, subpart B. Additionally, EPA will ensure that the information collection procedures comply with the Privacy Act of 1974 and the OMB Circular 108.

Form Numbers: None.

Respondents/affected entities: Entities that report electronically to EPA and state or local government authorized programs; and state and local government authorized programs implementing electronic reporting.

Respondent's obligation to respond: Voluntary, required to obtain or retain a benefit (CROMERR was established to ensure compliance with the Government Paperwork Elimination Act (GPEA)).

Estimated number of respondents: About 119,800 (total).

Frequency of response: On occasion.

Total estimated burden: About 77,000 hours (per year). Burden is defined at 5 CFR 1320.03(b).

Total estimated cost: about $3,979,500 (per year), includes $586,300 annualized capital or operation & maintenance costs.

Changes in Estimates: The annual respondent burden estimate in the currently approved CROMERR ICR (EPA ICR Number 2002.07) is 86,554 hours. The annual respondent burden estimate for this ICR (EPA ICR Number 2002.08) is anticipated to be about 77,000 hours. This represents a decrease of 9,554 hours in the total estimated respondent burden compared with the ICR currently approved by OMB.

The decrease in respondent burden can be attributed primarily to three reasons. First, even though the annual number of registrants with EPA's electronic document receiving system (i.e., the Central Data Exchange (CDX)) has increased over the past three years, the actual number of registrants under the e-Manifest system was lower than projected in the currently approved ICR. As a result, there is a net decrease in the number of registrants. Second, over the past three years, the Agency made improvements to CDX to enhance efficiencies in end-user registration, integration, and Help Desk support. These improvements resulted in reduced burden to respondents. Third, as a result of technological improvements, the Agency now is able to obtain real world data via google analytics on the frequency and amount of time a respondent spends accessing CDX web pages and features. Based on this information, EPA has revised the burden estimates associated with some of the CDX registration and identity proofing activities. The Agency believes that these revised burden estimates more accurately reflect the resources spent by respondents conducting electronic reporting activities under CROMERR, and for states gaining approval of their electronic reporting provisions for all their EPA-authorized programs. The overall change in respondent burden is considered an “adjustment,” because it results from changes in the respondent universe and hourly burden estimates used in the development of the ICR.

Dated: January 6, 2021.
Jennifer Campbell,
Director, Office of Information Management, Office of Mission Support.

[FR Doc. 2021-00899 Filed 1-14-21; 8:45 am]

BILLING CODE 6560-50-P